DEPARTMENT OF LABOR

Bureau of Labor Statistics

Technical Advisory Committee; Notice of Meeting and Agenda

The Bureau of Labor Statistics Technical Advisory Committee will meet on Friday, November 20, 2020. In light of the travel restrictions and social distancing requirements resulting from the COVID-19 outbreak, this meeting will be held virtually from 10 a.m. to 3 p.m. EST.

The Committee presents advice and makes recommendations to the Bureau of Labor Statistics (BLS) on technical aspects of data collection and the formulation of economic measures and makes recommendations on areas of research. The BLS presents issues and then draws on the expertise of Committee members representing specialized fields within the academic disciplines of economics, statistics and data science, and survey design.

The schedule and agenda for the meeting are as follows:

10:00 a.m.—Commissioner's Welcome and Review of Agency Developments

10:30 a.m.—JOLTS Experimental State Estimates Background and Priorities

11:45 p.m.—A Review of Hedonic Price Adjustment Techniques for Products Experiencing Rapid and Complex Quality Change

1:45 p.m.—Confidence Intervals for Preliminary Estimates of Quarterly Labor Productivity

2:45 p.m.—Concluding Remarks

3:00 p.m.—Approximate Conclusion

The meeting is open to the public. Any questions concerning the meeting should be directed to Sarah Dale, Bureau of Labor Statistics Technical Advisory Committee, at BLSTAC@bls.gov. Individuals planning to attend the meeting should register at https://blstac.eventbrite.com. Individuals who require special accommodations should contact Ms. Dale at least two days prior to the meeting date.

Signed at Washington, DC, this 26th day of October 2020.
Mark Staniorski,
Chief, Division of Management Systems.

[FR Doc. 2020-24118 Filed 10-29-20; 8:45 am]

BILLING CODE 4510-24-P